POSTAL REGULATORY COMMISSION

[Docket No. PI2022-2; Order No. 6104]

Public Inquiry on Service Performance Dashboard

AGENCY: Postal Regulatory Commission.

ACTION: Notice.

SUMMARY: The Commission is initiating a proceeding to propose public input with respect to the service performance dashboard and other questions of data accessibility and usability. This document informs the public of this proceeding, invites public comment, and takes other administrative steps.

DATES: Comments are due: March 18, 2022. Reply comments are due: April 7, 2022.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Background

III. Invitation for Comments

IV. Ordering Paragraphs

I. Introduction

The Commission's mission is to ensure transparency and accountability of the United States Postal Service and to foster a vital and efficient universal mail system.¹ As part of the Commission's ongoing efforts to promote transparency by making its public data more accessible and usable, the Commission is in the process of developing a new online service performance dashboard. In this docket, the Commission seeks public input with respect to the service performance dashboard, as well as other questions pertaining to data accessibility and usability.

¹ See Postal Regulatory Commission, Strategic Plan: 2017-2022, available at https://www.prc.gov/sites/default/files/Strategic%20Plan%202017-2022%2009222016%20OSA.pdf.

II. Background

As a result of its statutory oversight responsibilities, the Commission has an extensive catalog of public data pertaining to the Postal Service, including information concerning the Postal Service's service performance, finances, operations, and rates.² While this information has always been available to the public in the form in which the Commission receives it, it is spread across a myriad of reports and filings in the Commission's docketing system and knowing where to look for relevant information is not necessarily intuitive for the general public. Much of the data exists in the form of “library references,” which consist of electronic spreadsheets, workpapers, and other supporting material relevant to Commission proceedings, where it is frequently included within multiple layers of compressed files. See 39 CFR 3010.125.

² See, e.g., 39 U.S.C. 3652-3653, establishing the annual compliance review process. Other statutory areas of Commission oversight include 39 U.S.C. 3622-3633 (the Market Dominant and Competitive product ratemaking systems); 39 U.S.C. 3641 (market tests); 39 U.S.C. 3642 (mail classification changes); 39 U.S.C. 3654 (required financial reporting from the Postal Service); 39 U.S.C. 3661 (conducting hearings and issuing advisory opinions with respect to nature-of-service changes); and 39 U.S.C. 3662 (hearing rate and service complaints).

As directed by statute, the Commission prepares reports on an annual basis, and these reports highlight and discuss important findings, trends, results, etc. with respect to the Postal Service's operations, finances, and performance. However, for generalists and members of the public who are not postal experts, but who seek to obtain specific relevant information relatively quickly, this process may seem somewhat opaque. Moreover, there is a necessary lag time between the receipt of relevant information by the Commission and the issuance of formal reports based on that information. Furthermore, statutorily prescribed reporting periods typically cover previous periods, such as prior fiscal years, such that the information contained in Commission reports can lag what is happening “on the ground” by many months. While the Commission complies with all relevant statutes and strives to make its reports accessible to the general public, the Commission is exploring how the information contained therein might be made even more accessible.

Congress has encouraged federal agencies to improve the quality and accessibility of their data.³ The Commission is required to comply with the OPEN Government Data Act,⁴ and the Commission looks to open data policies for guidance on transparency initiatives. As part of these efforts, the Commission is in the process of developing an online dashboard that provides visual data and interactive tools to allow the public to view service performance results for many of the Postal Service's Market Dominant mail products (and product components) at the national level. The data on which these results are based are filed each year in Annual Compliance Review (ACR) dockets; but, for the reasons explained above, accessing it may not necessarily be intuitive for members of the public.⁵

³ See, e.g., the E-Government Act, Public Law 107-347, 116 Stat. 2899 (2002); the Digital Accountability and Transparency Act (DATA Act), Public Law 113-101, 128 Stat. 1146 (2014); and the OPEN Government Data Act, Public Law 115-435, 132 Stat. 5534 (2019).

⁴ OPEN Government Data Act, Public Law 115-435, 132 Stat. 5534 (2019), Title II.

⁵ Specifically, service performance data are generally filed in a library reference, typically “Postal Service Library Reference 29,” in ACR dockets. See, e.g., Docket No. ACR2020, Library Reference USPS-FY20-29, December 29, 2020 (service performance data pertaining to Fiscal Year 2020); Docket No. ACR2019, Library Reference USPS-FY19-29, December 27, 2019 (service performance data pertaining to Fiscal Year 2019), etc.

Consistent with the data that the Commission receives, the service performance dashboard focuses on national-level service performance results for specific Market Dominant postal products and/or product components.⁶ The dashboard does not have the capability to visualize geographic data, such as regional or ZIP Code level service performance results.⁷ The dashboard reflects information that is already available to the public and does not present any personally identifiable information. The initial service performance dashboard can be found at https://www.prc.gov/dash-deploy.

⁶ See 39 CFR part 3055, subpart A, which establishes the required level of service performance reporting by the Postal Service.

⁷ The United States Postal Service Office of Inspector General publishes national, division, and district data based on the composite results provided by the Postal Service at the following web page: https://www.uspsoig.gov/service-performance. These data are not the product-level results (as required by 39 CFR part 3055) used to evaluate compliance in the ACR dockets. The national composite results serve as public performance indicators used to evaluate the Postal Service's progress toward its High-Quality Service performance goal. See, e.g., Docket No. ACR2020, Analysis of the Postal Service's FY 2020 Annual Performance Report and FY 2021 Performance Plan, June 2, 2021, at 34-35.

III. Invitation for Comments

The Commission invites interested persons to comment on the initial service performance dashboard, as well as on the Commission's more general efforts to make Postal Service data more accessible and usable for the public. Regarding the service performance dashboard, the Commission seeks comment specifically on the following discussion areas:

• The overall usefulness and desirability of dashboard-style visualization with respect to the Postal Service's national-level service performance.

• The current dashboard's presentation, usability, functionality, and any other features.

• The scope of products and/or product components covered by the current dashboard.

• The frequency of desired updates (e.g., quarterly, annually, etc.).

• The desirability of being able to download source data, and if so, in what format.

Regarding data accessibility and usability more generally, the Commission seeks comment specifically on the following discussion areas:

• What, if any, other dashboards should the Commission develop that are consistent with the Commission's statutory authorities (e.g., postal finances, etc.)?

• What other forms of data visualization should the Commission explore?

• Who would be the likely users of Commission dashboards and what information they would be most interested in?

• Whether bulk access and Application Programming Interface (API) ⁸ functionality with respect to Commission data would be useful to mailers, postal customers, or other postal stakeholders?

⁸ “An Application Programming Interface, or API, is a set of software instructions and standards that allows machine to machine communication,” available at https://digital.gov/2013/04/30/apis-in-government/.

• What machine readable formats are most useful to external users?

The dashboard linked above is limited to public information currently provided by the Postal Service to the Commission for its regulatory purposes pursuant to Title 39 and consistent with the Commission's regulations. Comments suggesting presentation of data not currently provided to the Commission or not currently available to the public are beyond the scope of the initial service performance dashboard but may be considered for future efforts to the extent consistent with the law and the Commission's mission and resources.⁹

⁹ The treatment of information and data provided to the Commission as non-public material is governed by 39 U.S.C. 504(g), 3652(f), 3654(f), and 39 CFR parts 3006 and 3011.

Comments are due March 18, 2022 and reply comments are due April 7, 2022. Material filed in this docket will be available for review on the Commission's website, http://www.prc.gov.

Pursuant to 39 U.S.C. 505, Manon A. Boudreault is appointed to serve as an officer of the Commission (Public Representative) to represent the interests of the general public in this docket.

IV. Ordering Paragraphs

It is ordered:

1. The Commission establishes Docket No. PI2022-2 for the purpose of receiving public input with respect to the Commission's new service performance dashboard and other questions of data accessibility and usability.

2. Interested persons may submit written comments no later than March 18, 2022 and reply comments are due April 7, 2022.

3. Pursuant to 39 U.S.C. 505, Manon A. Boudreault is appointed to serve as Public Representative in this proceeding.

4. The Secretary shall arrange for publication of this Notice in the Federal Register.

By the Commission.
Erica A. Barker,
Secretary.

[FR Doc. 2022-03327 Filed 2-15-22; 8:45 am]

BILLING CODE 7710-FW-P